DEPARTMENT OF THE INTERIOR

National Park Service

[NPS-WASO-NAGPRA-NPS0025525; PPWOCRADN0-PCU00RP14.R50000]

Notice of Inventory Completion: Heard Museum, Phoenix, AZ

AGENCY: National Park Service, Interior.

ACTION: Notice.

SUMMARY: The Heard Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Heard Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Heard Museum at the address in this notice by July 18, 2018.

ADDRESSES: David Roche, Director/CEO, Heard Museum, 2301 North Central Avenue, Phoenix, AZ 85004, telephone (602) 252-8840, email director@heard.org.

SUPPLEMENTARY INFORMATION: Notice is here given in accordance with the Native American Graves Protection and Repatriation Act (NAGPRA), 25 U.S.C. 3003, of the completion of an inventory of human remains and associated funerary objects under the control of the Heard Museum, Phoenix, AZ. The human remains and associated funerary objects are believed to have been removed from the State of Indiana.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Heard Museum professional staff in consultation with representatives of Cheyenne River Sioux Tribe of the Cheyenne River Reservation, South Dakota; Miami Tribe of Oklahoma; and Three Affiliated Tribes of the Fort Berthold Reservation, North Dakota.

History and Description of the Remains

Prior to 1991, human remains representing, at minimum, one individuals were removed from an otherwise unidentified Hopewell site in the State of Indiana. In 1991, the remains were found in the Heard Museum collection and assigned catalog number NA-MIS-PR-T-1. The individual is believed to be a male aged 18-25. No known individuals were identified. The one associated funerary object is a hoof core of either a deer or antelope. Hopewell culture flourished from approximately A.D. 1 to 500 in Indiana. The Miami Tribe of Oklahoma is culturally affiliated with Indiana Hopewell remains.

Determinations Made by the Heard Museum

Officials of the Heard Museum have determined that:

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary objects and the Miami Tribe of Oklahoma.

Additional Requestors and Disposition

Lineal descendants or representatives of any Indian Tribe or Native Hawaiian organization not identified in this notice that wish to request transfer of control of these human remains and associated funerary objects should submit a written request with information in support of the request to David Roche, Director/CEO, Heard Museum, 2301 North Central Avenue, Phoenix, AZ 85004, telephone (602) 252-8840, email director@heard.org, by July 18, 2018. After that date, if no additional requestors have come forward, transfer of control of the human remains and associated funerary objects to the Miami Tribe of Oklahoma may proceed.

The Heard Museum is responsible for notifying the Miami Tribe of Oklahoma that this notice has been published.

Dated: May 2, 2018.
Melanie O'Brien,
Manager, National NAGPRA Program.

[FR Doc. 2018-13032 Filed 6-15-18; 8:45 am]

BILLING CODE 4312-52-P